DEPARTMENT OF HEALTH AND HUMAN SERVICES

Food and Drug Administration

[FDA 225-03-8003]

Memorandum of Understanding Between the U.S. Food and Drug Administration and Howard University, Washington, DC

AGENCY: Food and Drug Administration, HHS.

ACTION: Notice.

SUMMARY: The Food and Drug Administration (FDA) is providing notice of a memorandum of understanding (MOU) between the U.S. Food and Drug Administration and Howard University, Washington, DC. The purpose is to implement an integrated system of shared interest in scientific progress through an exchange of scientific capital in the diverse fields of science that directly and indirectly affect human and animal health and medicine.

DATES: The agreement became effective May 29, 2003.

FOR FURTHER INFORMATION CONTACT: Judy Blumenthal, Office of Science, Food and Drug Administration, 200 Independence Ave. SW., Washington, DC 20201, 202-260-0677.

SUPPLEMENTARY INFORMATION: In accordance with 21 CFR 20.108(c), which states that all written agreements and MOUs between FDA and others shall be published in the Federal Register, the agency is publishing notice of this MOU.

Dated: June 27, 2005.
Jeffrey Shuren,
Assistant Commissioner for Policy.

[FR Doc. 05-13339 Filed 7-6-05; 8:45 am]

BILLING CODE 4160-01-C